DEPARTMENT OF LABOR

Employment and Training Administration

[TA-W-62,189]

Diaz Intermediates Corporation, West Memphis, AR; Notice of Negative Determination Regarding Application for Reconsideration

By letter dated December 28, 2007, a company official requested administrative reconsideration regarding the Department's Negative Determination Regarding Eligibility to Apply for Worker Adjustment Assistance, applicable to the workers of the subject firm. The denial notice was signed on November 28, 2007 and published in the Federal Register on December 11, 2007 (72 FR 70346).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination which was based on the finding that imports of brominated chemical intermediates (i.e. bromobenzene, m-bromoanisole, n-propyl bromide, and other organics) did not contribute importantly to worker separations at the subject plant and no shift of production to a foreign source occurred. The “contributed importantly” test is generally demonstrated through a survey of the workers' firm's declining customers. The survey revealed customers did not purchase imported brominated chemical intermediates during the relevant period. The subject firm did not import brominated chemical intermediates and no shifted in production of brominated chemical intermediates to a foreign country occurred.

The petitioner stated that most of the subject firm's sales were for export, however, there were losses in sales to domestic customers. The petitioner provided the name of a customer which ceased purchases from the subject firm in 2005 and at the same time started importing products like or directly competitive with brominated chemical intermediates produced by the subject firm.

When assessing eligibility for Trade Adjustment Assistance (TAA), the Department exclusively considers import impact during the relevant time period (one year prior to the date of the petition). The Department surveyed customers of the subject firm regarding their purchases of brominated chemical intermediates during the relevant period. The survey revealed no imports of brominated chemical intermediates during the relevant period.

Conclusion

After review of the application and investigative findings, I conclude that there has been no error or misinterpretation of the law or of the facts which would justify reconsideration of the Department of Labor's prior decision. Accordingly, the application is denied.

Signed in Washington, DC, this 30th day of January 2008.
Elliott S. Kushner,
Certifying Officer, Division of Trade Adjustment Assistance.

[FR Doc. E8-2237 Filed 2-6-08; 8:45 am]

BILLING CODE 4510-FN-P